ENVIRONMENTAL PROTECTION AGENCY

40 CFR Chapter I

[EPA-HQ-OPP-2014-0818; FRL-9929-16]

Proposal To Mitigate Exposure to Bees From Acutely Toxic Pesticide Products; Extension of Comment Period

AGENCY: Environmental Protection Agency (EPA).

ACTION: Extension of comment period.

SUMMARY: EPA issued a notice in the Federal Register of May 29, 2015, concerning EPA's Proposal to Mitigate Exposure to Bees from Acutely Toxic Pesticide Products. This document extends the comment period for 30 days, from June 29, 2015 to July 29, 2015. Multiple stakeholders requested that EPA extend the comment period due to the complexity and importance of this issue. EPA is granting the extension.

DATES: The comment period for the document published on May 29, 2015 (80 FR 30644), is extended. Comments, identified by docket identification (ID) number EPA-HQ-OPP-2014-0818 must be received on or before July 29, 2015.

ADDRESSES: Follow the detailed instructions provided under ADDRESSES in the Federal Register document of May 29, 2015 (80 FR 30644) (FRL-9927-36).

FOR FURTHER INFORMATION CONTACT: Michael Goodis, Pesticide Re-Evaluation Division (7508P), Office of Pesticide Programs, Environmental Protection Agency, 1200 Pennsylvania Ave. NW., Washington, DC 20460-0001; telephone number: (703) 308-8157; email address: goodis.michael@epa.gov, or

Marietta Echeverria, Registration Division (7505P), Office of Pesticide Programs, Environmental Protection Agency, 1200 Pennsylvania Ave. NW., Washington, DC 20460-0001; telephone number: (703) 305-8578; email address: echeverria.marietta@epa.gov.

SUPPLEMENTARY INFORMATION: This document extends the public comment period established in the Federal Register document of May 29, 2015 (80 FR 30644) (FRL-9927-36). In that document, EPA is seeking comment on a proposal to adopt mandatory pesticide label restrictions to protect managed bees under contract pollination services from foliar applications of pesticides that are acutely toxic to bees on a contact exposure basis. These label restrictions would prohibit applications of pesticide products, which are acutely toxic to bees, during bloom when bees are known to be present under contract. EPA is also seeking comment on a proposal to rely on efforts made by states and tribes to reduce pesticide exposures through development of locally-based measures, specifically through managed pollinator protection plans. These plans would include local and customizable mitigation measures to address certain scenarios that can result in exposure to pollinators. EPA intends to monitor the success of these plans in deciding whether further label restrictions are warranted. EPA is hereby extending the comment period, which was set to end on June 29, 2015, to July 29, 2015.

To submit comments, or access the docket, please follow the detailed instructions provided under ADDRESSES in the Federal Register document of May 29, 2015. If you have questions, consult the person listed under FOR FURTHER INFORMATION CONTACT.

Authority: 7 U.S.C. 136a.

Dated: June 11, 2015.
Jack E. Housenger,
Director, Office of Pesticide Programs.

[FR Doc. 2015-14950 Filed 6-18-15; 8:45 am]

BILLING CODE 6560-50-P